DEPARTMENT OF THE INTERIOR

National Park Service

[NPS-WASO-NAGPRA-NPS0036061; PPWOCRADN0-PCU00RP14.R50000]

Notice of Inventory Completion: Robbins Museum of Archaeology, Middleborough, MA

AGENCY: National Park Service, Interior.

ACTION: Notice.

SUMMARY: In accordance with the Native American Graves Protection and Repatriation Act (NAGPRA), the Robbins Museum of Archaeology has completed an inventory of human remains and associated funerary objects and has determined that there is a cultural affiliation between the human remains and associated funerary objects and Indian Tribes or Native Hawaiian organizations in this notice. The human remains and associated funerary objects were removed from Hillsborough County, FL.

DATES: Repatriation of the human remains and associated funerary objects in this notice may occur on or after July 24, 2023.

ADDRESSES: Victor Mastone, Robbins Museum of Archaeology, 17 Jackson Street, Middleborough, MA 02346, telephone (508) 947-9005, email victor.mastone@massarchaeology.org.

SUPPLEMENTARY INFORMATION: This notice is published as part of the National Park Service's administrative responsibilities under NAGPRA. The determinations in this notice are the sole responsibility of the Robbins Museum of Archaeology. The National Park Service is not responsible for the determinations in this notice. Additional information on the determinations in this notice, including the results of consultation, can be found in the inventory or related records held by the Robbins Museum of Archaeology.

Description

Human remains representing, at minimum, one individual were removed from an unknown locality in Tampa, Hillsborough County, FL. In December 2013, the ancestral remains and associated funerary objects were left at the Robbins Museum of Archaeology. A handwritten note with the individual and the items reads, “Taken from Indians. Tampa. Feb 4th, 1886.” Museum personnel recorded that these remains and funerary items had been found together in a barn in Kingston, Massachusetts. The fragmentary human remains most likely belong to an older adult male. No known individual was identified. The five associated funerary objects are one red pebble, one fossilized animal vertebra, one lot consisting of tarpon scales, one lot consisting of mineralized fossils, and one lot consisting of faunal remains.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological, archeological, geographical, historical, oral traditional, and expert opinion.

Determinations

Pursuant to NAGPRA and its implementing regulations, and after consultation with the appropriate Indian Tribes and Native Hawaiian organizations, the Robbins Museum of Archaeology has determined that:

• The human remains described in this notice represent the physical remains of one individual of Native American ancestry.

• The five objects described in this notice are reasonably believed to have been placed with or near individual human remains at the time of death or later as part of the death rite or ceremony.

• There is a relationship of shared group identity that can be reasonably traced between the human remains and associated funerary objects described in this notice and the Miccosukee Tribe of Indians; Seminole Tribe of Florida; and The Seminole Nation of Oklahoma.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after July 24, 2023. If competing requests for repatriation are received, the Robbins Museum of Archaeology must determine the most appropriate requestor prior to repatriation. Requests for joint repatriation of the human remains and associated funerary objects are considered a single request and not competing requests. The Robbins Museum of Archaeology is responsible for sending a copy of this notice to the Indian Tribes identified in this notice.

Authority: Native American Graves Protection and Repatriation Act, 25 U.S.C. 3003, and the implementing regulations, 43 CFR 10.9, 10.10, and 10.14.

Dated: June 14, 2023.
Melanie O'Brien,
Manager, National NAGPRA Program.

[FR Doc. 2023-13299 Filed 6-21-23; 8:45 am]

BILLING CODE 4312-52-P